OFFICE OF PERSONNEL MANAGEMENT

5 CFR Part 532

RIN 3206-AJ23

Prevailing Rate Systems; Redefinition of the Los Angeles, CA, Appropriated Fund Wage Area

AGENCY: Office of Personnel Management.

ACTION: Proposed rule with request for comments.

SUMMARY: The Office of Personnel Management (OPM) is issuing a proposed rule to remove Inyo County, CA, from the Los Angeles, CA, appropriated fund Federal Wage System (FWS) wage area. The county, excluding the China Lake Naval Weapons Center portion, would be defined to the Las Vegas, NV, FWS wage area. This change would reflect the regulatory criteria we use to define FWS wage areas more accurately. It would affect FWS employees at Death Valley National Park by placing them on a higher wage schedule.

DATES: We must receive comments by September 18, 2000.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: Jennifer Hopkins at (202) 606-2848; FAX at (202) 606-0824; or email at jdhopkin@opm.gov.

SUPPLEMENTARY INFORMATION: The Office of Personnel Management (OPM) is proposing to move Inyo County, California, from the Los Angeles, CA, appropriated fund Federal Wage System (FWS) wage area to the Las Vegas, NV, FWS wage area. The county is currently an area of application county in the Los Angeles wage area. China Lake Naval Weapons Center is located in Inyo, Kern, and San Bernardino Counties, CA. China Lake Naval Weapons Center would remain a part of the Los Angeles FWS wage area so that the installation would continue to be defined to a single wage area. The regulatory criteria we use to define FWS wage areas indicate that the main employment locations for FWS employees at China Lake are properly defined to the Los Angeles wage area. We would place the rest of Inyo County in the Las Vegas FWS wage area. The Las Vegas wage area currently consists of two survey counties, Clark and Nye Counties, NV, and three area of application counties, Esmeralda and Lincoln Counties, NV, and Mohave County, AZ.

OPM considers the following regulatory criteria under 5 CFR 532.211 when defining FWS wage area boundaries:

(i) Distance, transportation facilities, and geographic features;

(ii) Commuting patterns; and

(iii) Similarities in overall population employment, and the kinds and sizes of private industrial establishments.

Based on our analysis of the regulatory criteria for defining appropriated fund FWS wage areas, we find that Inyo County should be part of the Las Vegas wage area. The distance criterion is the major factor in our determination. The county is much closer to the Las Vegas wage area than to the Los Angeles wage area. Inyo County is approximately 194 km (120 miles) from Las Vegas. The county is approximately 203 km (126 miles) from Nellis Air Force Base, the Las Vegas wage area's host installation. We studied the other criteria, but they did not favor one wage area more than another. The Las Vegas, NV, FWS wage area would consist of two survey counties, Clark and Nye Counties, NV, and four area of application counties, Esmeralda and Lincoln Counties, NV, Mohave County, AZ, and Inyo County, CA.

The Federal Prevailing Rate Advisory Committee (FPRAC), the national labor-management committee that advises OPM on FWS pay matters, reviewed and concurred by consensus with this change. Based on its review of the regulatory criteria for defining FWS wage areas, FPRAC recommended no other changes in the geographic definition of the Los Angeles FWS wage area.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Janice R. Lachance,
Director.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of California is amended by revising the listing for Los Angeles; and for the State of Nevada, by revising the listing for Las Vegas, to read as follows:

Appendix C to Subpart B of Part 532—Appropriated Fund Wage and Survey Areas

* * * * *

California

* * * * *

Los Angeles

Survey Area

California:

Los Angeles

Area of Application. Survey area plus:

California:

Inyo (Includes the China Lake Naval Weapons Center portion only)

Kern (Includes the China Lake Naval Weapons Center, Edwards Air Force Base, and portions occupied by Federal activities at Boron (City) only)

Orange

Riverside (Includes the Joshua Tree National Monument portion only)

San Bernardino (All of San Bernardino County except that portion occupied by, and south and west of, the Angeles and San Bernardino National Forests)

Ventura

* * * * *

Nevada

Las Vegas

Survey Area

Nevada:

Clark

Nye

Area of Application. Survey area plus:

Nevada:

Esmeralda

Lincoln

Arizona:

Mohave

California:

Inyo (Excludes the China Lake Naval Weapons Center portion only)

* * * * *

[FR Doc. 00-20897 Filed 8-16-00; 8:45 am]

BILLING CODE 6325-01-P